DEPARTMENT OF COMMERCE

Foreign-Trade Zones Board

[Order No. 1869]

Approval for Manufacturing Authority; Foreign-Trade Zone 277; Sub-Zero, Inc. (Refrigerators and Freezers); Goodyear, AZ

Pursuant to its authority under the Foreign-Trade Zones Act of June 18, 1934, as amended (19 U.S.C. 81a-81u) (the Act), the Foreign-Trade Zones Board (the Board) adopts the following Order:

Whereas, the Greater Maricopa County Foreign Trade Zone, Inc., grantee of FTZ 277, has requested manufacturing authority on behalf of Sub-Zero, Inc., within FTZ 277—Site 3, Goodyear, Arizona (FTZ Docket 73-2011, filed 11-10-2011);

Whereas, notice inviting public comment has been given in the Federal Register (76 FR 70957, 11-16-2011) and the application has been processed pursuant to the FTZ Act and the Board's regulations; and,

Whereas, the Board adopts the findings and recommendations of the examiner's report, and finds that the requirements of the FTZ Act and the Board's regulations are satisfied, and that the proposal is in the public interest;

Now, therefore, the Board hereby orders:

The application for manufacturing authority under zone procedures within FTZ 277 on behalf of Sub-Zero, Inc., as described in the application and Federal Register notice, is approved, subject to the FTZ Act and the Board's regulations, including Section 400.13.

Signed at Washington, DC, this 30th day of November 2012.
Ronald K. Lorentzen,
Acting Assistant Secretary for Import Administration, Alternate Chairman, Foreign-Trade Zones Board.
Andrew McGilvray,
Executive Secretary.

[FR Doc. 2012-29769 Filed 12-7-12; 8:45 am]

BILLING CODE P